DEPARTMENT OF HEALTH AND HUMAN SERVICES

National Institutes of Health

Center for Scientific Review; Amended Notice of Meeting

Notice is hereby given of a change in the meeting of the Brain Injury and Neurovascular Pathologies Study Section, October 10, 2013, 08:00 a.m. to October 11, 2013, 05:00 p.m., Hotel Nikko San Francisco, 222 Mason Street, San Francisco, CA 94102 which was published in the Federal Register on September 12, 2013, 78 FR 177 Pg. 56239.

The meeting will be held at Embassy Suites Chevy Chase, 4300 Military Rd. NW., Washington, DC 20015. The meeting will start on November 25, 2013 at 8:30 a.m. and end on November 26, 2013 at 5:00 p.m. The meeting is closed to the public.

Dated: October 25, 2013.
Anna Snouffer,
Deputy Director, Office of Federal Advisory Committee Policy.

[FR Doc. 2013-25874 Filed 10-30-13; 8:45 am]

BILLING CODE 4140-01-P